CORPORATION FOR NATIONAL AND COMMUNITY SERVICE

Sunshine Act Meetings

The Board of Directors of the Corporation for National and Community Service (operating as AmeriCorps) gives notice of the following meeting:

TIME AND DATE: Friday, March 1, 2024, 2:00 p.m.-3:30 p.m. (ET).

PLACE: AmeriCorps, 250 E Street SW, Washington, DC 20525. For health and safety reasons, this will be a virtual meeting.

• To register for the meeting, please use this link: https://americorps.zoomgov.com/webinar/register/WN_d5hKOeCqT-2xpGJiPiml3Q.

• Webinar ID: 160 953 1136 Passcode: 834402.

• To participate by phone, call toll free: (833) 568-8864.

STATUS: Open to the public.

MATTERS TO BE CONSIDERED:

I. Opening Remarks by the Chair

II. CEO Remarks

III. Review of the CEO Letter and Outcome

IV. Oversight, Governance, and Audit Committee Report

V. Actions From the Board

VI. Spotlight: Tribal and Native Grantees

VII. Public Comment

VIII. Chair's Closing Remarks and Adjournment

Members of the public who would like to comment on the business of the Board may do so in writing or virtually. Submit written comments to board@americorps.gov with the subject line: “Comments for March 1, 2024, AmeriCorps Board Meeting” no later than 5:00 p.m. (ET) February 23, 2024. Individuals who would like to comment during the meeting will be given instructions for signing up when they join the meeting. Comments should be limited to two minutes.

AmeriCorps provides reasonable accommodation upon request to individuals with disabilities, where needed.

CONTACT PERSON FOR MORE INFORMATION: Heather Leinenbach by telephone: (202) 489-5266 or by email: board@americorps.gov.

Fernando Laguarda,
General Counsel.

[FR Doc. 2024-02824 Filed 2-7-24; 4:15 pm]

BILLING CODE 6050-28-P